SMALL BUSINESS ADMINISTRATION

[Disaster Declaration # 20955; TEXAS Disaster Number TX-20041 Declaration of Economic Injury]

Administrative Declaration of an Economic Injury Disaster for the State of Texas

AGENCY: U.S. Small Business Administration.

ACTION: Notice.

SUMMARY: This is a notice of an Economic Injury Disaster Loan (EIDL) declaration for the State of Texas dated January 13, 2025.

Incident: Laredo Boil Water Notice due to E. Coli Contamination.

DATES: Issued on January 13, 2025.

Incident Period: October 10, 2024 through October 21, 2024.

Economic Injury (EIDL) Loan Application Deadline Date: October 14, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Webb.

Contiguous Counties: Texas

Dimmit, Duval, Jim Hogg, La Salle, Maverick, McMullen, Zapata.

The Interest Rates are:

| Percent
Business and Small Agricultural Cooperatives without Credit Available Elsewhere | 4.000
Non-Profit Organizations without Credit Available Elsewhere | 3.250

The number assigned to this disaster for economic injury is 209550.

The State which received an EIDL Declaration is Texas.

(Catalog of Federal Domestic Assistance Number 59008)

Isabella Guzman,
Administrator.

[FR Doc. 2025-01081 Filed 1-16-25; 8:45 am]

BILLING CODE 8026-09-P